DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Correlates of High Organ Donation Rates

The HRSA, Office of Special Programs (OSP), Division of Transplantation (DoT) is planning a study to identify and evaluate practices related to organ procurement organization (OPO) and hospital structures and processes associated with high rates of organ donation. The study sample will include nine OPOs and 54 affiliated hospitals. (The OPO sample will be chosen first, followed by a corresponding sample of hospitals that have affiliations with the chosen OPOs.)

The study consists of two phases, of which only Phase 2 will require OMB Clearance. Phase 1 will involve an examination of secondary data sources to obtain descriptive information on the universe of OPOs and a subset of hospitals that have the potential for organ procurement activities. Phase 2 will involve data collection from more than nine hospitals through surveys and site visits to identify practices of OPO, hospital, and OPO-hospital interactions that are associated with higher rates of organ donation.

Hospitals included in the sample are likely to be, though not necessarily limited to, those with Trauma I and II designations, because the majority of organ donations occur in these types of hospitals. Data collection instruments for the hospital sample will include: (1) Hospital Pre-site Visit Telephone Survey; (2) Hospital On-site Visit Interview Protocol; and (3) OPO-Hospital Perceptions Survey.

The Hospital Pre-site Visit Telephone Survey will capture supplemental data on hospital organizational structures and processes related to organ procurement such as presence of an ethics committee, donation committee, or staff designated to engage in organ donation activities. The Hospital On-site Visit Interview Protocol will be used to identify characteristics of hospital structures and processes and OPO-hospital interactions that may facilitate or limit referrals to OPOs by hospitals, potential organ donor consent, organ recovery, and organs transplanted. Focus areas include, but are not limited to, hospital commitment to and governance over organ procurement activities, planning and evaluation, financial issues, staffing, training, and technical and data collection capacity. The OPO-Hospital Perceptions Survey will capture the convergence or divergence of OPO and affiliated hospital perceptions about their working relationship.

The data collected will provide HRSA with a better understanding of the structural characteristics and practices of OPOs and hospitals associated with higher rates of referrals, consent, organ recovery, and organs transplanted. Results will inform future research, policy, and practice aimed at improving rates of organ donation as emphasized by U.S. Department of Health and Human Services Secretary Tommy G. Thompson's Gift of Life Initiative.

Estimates of Annualized Hour Burden
Form name | Number of respondents | Responses per respondent | Hours per response | Total hour burden
Hospital Pre-Site Visit Telephone Survey | 108 | 1 | 2 | 216
Hospital On-Site Visit Interview Protocol | 540 | 1 | 1 | 540
OPO-Hospital Perception Survey | 54 | 1 | 1 | 54
Total | 702 |  |  | 810

Send comments to Susan G. Queen, Ph.D., HRSA Reports Clearance Officer, Room 11A-33, Parklawn Building, 5600 Fishers Lane, Rockville, MD 20857. Written comments should be received within 60 days of this notice.

Dated: August 23, 2002.
Jon L. Nelson,
Associate Administrator for Management and Program Support.

[FR Doc. 02-22079 Filed 8-28-02; 8:45 am]

BILLING CODE 4165-15-P